DEPARTMENT OF ENERGY

Federal Energy Regulatory Commission

Combined Notice of Filings #1

Take notice that the Commission received the following electric corporate filings:

Docket Numbers: EC20-4-000.

Applicants: Tenaska Alabama II Partners, L.P., Alabama Power Company.

Description: Response of Southern Company Services, Inc. on behalf of Alabama Power Company, et al. to October 23, 2019 letter requesting additional information.

Filed Date: 11/21/19.

Accession Number: 20191121-5178.

Comments Due: 5 p.m. ET 12/5/19.

Take notice that the Commission received the following exempt wholesale generator filings:

Docket Numbers: EG20-46-000.

Applicants: Acorn I Energy Storage, LLC.

Description: Self-Certification of EWG status of Acorn I Energy Storage, LLC.

Filed Date: 11/22/19.

Accession Number: 20191122-5057.

Comments Due: 5 p.m. ET 12/13/19.

Docket Numbers: EG20-47-000.

Applicants: Wildcat I Energy Storage, LLC.

Description: Self-Certification of EWG status of Wildcat I Energy Storage, LLC.

Filed Date: 11/22/19.

Accession Number: 20191122-5058.

Comments Due: 5 p.m. ET 12/13/19.

Take notice that the Commission received the following electric rate filings:

Docket Numbers: ER18-552-002.

Applicants: Clean Energy Future—Lordstown, LLC.

Description: Supplement to April 1, 2019 Notice of Non-Material Change in Status of Clean Energy Future—Lordstown, LLC.

Filed Date: 11/21/19.

Accession Number: 20191121-5181.

Comments Due: 5 p.m. ET 12/12/19.

Docket Numbers: ER20-28-002.

Applicants: MidAmerican Energy Company.

Description: Tariff Amendment: Second Amendment of Pending Tariff Filing in ER20-28 to be effective 11/1/2019.

Filed Date: 11/22/19.

Accession Number: 20191122-5001.

Comments Due: 5 p.m. ET 12/13/19.

Docket Numbers: ER20-270-001.

Applicants: Dynegy Oakland, LLC.

Description: Tariff Amendment: Errata to Annual Reliability Must Run Agreement and Schedule F Info Filings to be effective 1/1/2020.

Filed Date: 11/21/19.

Accession Number: 20191121-5170.

Comments Due: 5 p.m. ET 12/12/19.

Docket Numbers: ER20-441-000.

Applicants: Southwest Power Pool, Inc.

Description: § 205(d) Rate Filing: 2841R1 Smoky Hills/Evergy Kansas Central Meter Agent Agr to be effective 11/1/2019.

Filed Date: 11/21/19.

Accession Number: 20191121-5166.

Comments Due: 5 p.m. ET 12/12/19.

Docket Numbers: ER20-442-000.

Applicants: Wildcat I Energy Storage, LLC.

Description: Baseline eTariff Filing: Market-based Rate Tariff and Application to be effective 11/23/2019.

Filed Date: 11/22/19.

Accession Number: 20191122-5053.

Comments Due: 5 p.m. ET 12/13/19.

Docket Numbers: ER20-443-000.

Applicants: Acorn I Energy Storage, LLC.

Description: Baseline eTariff Filing: Market-based Rate Tariff and Application to be effective 11/23/2019.

Filed Date: 11/22/19.

Accession Number: 20191122-5054.

Comments Due: 5 p.m. ET 12/13/19.

Docket Numbers: ER20-444-000.

Applicants: Midcontinent Independent System Operator, Inc.

Description: § 205(d) Rate Filing: 2019-11-22_SA 3374 Entergy Louisiana-Amite Solar GIA (J909) to be effective 11/7/2019.

Filed Date: 11/22/19.

Accession Number: 20191122-5073.

Comments Due: 5 p.m. ET 12/13/19.

Docket Numbers: ER20-445-000.

Applicants: Mountain Wind Power, LLC.

Description: § 205(d) Rate Filing: Revisions to Market-Based Rate Tariff and Requests for Waivers to be effective 11/23/2019.

Filed Date: 11/22/19.

Accession Number: 20191122-5074.

Comments Due: 5 p.m. ET 12/13/19.

Docket Numbers: ER20-446-000.

Applicants: Mountain Wind Power II LLC.

Description: § 205(d) Rate Filing: Revisions to Market-Based Rate Tariff and Requests for Waivers to be effective 11/23/2019.

Filed Date: 11/22/19.

Accession Number: 20191122-5075.

Comments Due: 5 p.m. ET 12/13/19.

Docket Numbers: ER20-447-000.

Applicants: Spring Canyon Energy III LLC.

Description: § 205(d) Rate Filing: Revisions to Market-Based Rate Tariff and Requests for Waivers to be effective 11/23/2019.

Filed Date: 11/22/19.

Accession Number: 20191122-5078.

Comments Due: 5 p.m. ET 12/13/19.

Docket Numbers: ER20-448-000.

Applicants: Spring Canyon Energy II LLC.

Description: § 205(d) Rate Filing: Revisions to Market-Based Rate Tariff and Requests for Waivers to be effective 11/23/2019.

Filed Date: 11/22/19.

Accession Number: 20191122-5085.

Comments Due: 5 p.m. ET 12/13/19.

Docket Numbers: ER20-449-000.

Applicants: California Independent System Operator Corporation.

Description: § 205(d) Rate Filing: 2019-11-22 Amendment to Facilitate Data Sharing in Response to a Cyber Exigency to be effective 2/5/2020.

Filed Date: 11/22/19.

Accession Number: 20191122-5126.

Comments Due: 5 p.m. ET 12/13/19.

Docket Numbers: ER20-450-000.

Applicants: ISO New England Inc., New England Power Pool Participants Committee, Eversource Energy Service Company (as agent), Vermont Electric Power Company, Inc.

Description: § 205(d) Rate Filing: ISO-NE and NEPOOL; Interconnection Service Capability Changes to be effective 1/22/2020.

Filed Date: 11/22/19.

Accession Number: 20191122-5129.

Comments Due: 5 p.m. ET 12/13/19.

Docket Numbers: ER20-451-000.

Applicants: PJM Interconnection, L.L.C.

Description: Tariff Cancellation: Notice of Cancellation of ISA SA No. 4327; Queue No. AA1-057 to be effective 11/29/2019.

Filed Date: 11/22/19.

Accession Number: 20191122-5166.

Comments Due: 5 p.m. ET 12/13/19.

Docket Numbers: ER20-452-000.

Applicants: Inland Empire Energy Center, LLC.

Description: Tariff Cancellation: Notice of Cancellation of MBR Tariff to be effective 12/31/2019.

Filed Date: 11/22/19.

Accession Number: 20191122-5168.

Comments Due: 5 p.m. ET 12/13/19.

Take notice that the Commission received the following electric securities filings:

Docket Numbers: ES20-10-000.

Applicants: AEP Appalachian Transmission Company, Inc., AEP Indiana Michigan Transmission Company, Inc., AEP Kentucky Transmission Company, Inc., AEP Oklahoma Transmission Company, Inc., AEP Southwestern Transmission Company, Inc., AEP West Virginia Transmission Company, Inc.

Description: Application Under Section 204 of the Federal Power Act for Authorization to Issue Securities of AEP Appalachian Transmission Company, Inc., et al.

Filed Date: 11/22/19.

Accession Number: 20191122-5103.

Comments Due: 5 p.m. ET 12/13/19.

Take notice that the Commission received the following PURPA 210(m)(3) filings:

Docket Numbers: QM19-4-000.

Applicants: Southwestern Public Service Company.

Description: Supplement to September 5, 2019 Application to Terminate the Requirement to Enter Into New Contracts or Obligations with Qualifying Facilities of Southwestern Public Service Company.

Filed Date: 11/4/19.

Accession Number: 20191104-5115.

Comments Due: 5 p.m. ET 12/2/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 22, 2019.
Nathaniel J. Davis, Sr.,
Deputy Secretary.

[FR Doc. 2019-25918 Filed 11-27-19; 8:45 am]

BILLING CODE 6717-01-P